DEPARTMENT OF HEALTH AND HUMAN SERVICES

Health Resources and Services Administration

Agency Information Collection Activities: Submission to OMB for Review and Approval; Public Comment Request; Nurse Corps Scholarship Program—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than April 17, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request more information on the proposed project or to obtain a copy of the data collection plans and draft instruments, email paperwork@hrsa.gov or call Samantha Miller, the HRSA Information Collection Clearance Officer, at 301-594-4394.

SUPPLEMENTARY INFORMATION: When submitting comments or requesting information, please include the ICR title for reference.

Information Collection Request Title: Nurse Corps Scholarship Program.

OMB No. 0915-0301—Extension.

Abstract: The Nurse Corps Scholarship Program (Nurse Corps SP), administered by HRSA, provides scholarships to nursing students in exchange for a minimum 2-year full-time service commitment (or part-time equivalent), at an eligible health care facility with a critical shortage of nurses (i.e., Critical Shortage Facility (CSF)). The scholarship consists of payment of tuition, fees, other reasonable educational costs, and a monthly support stipend. Program recipients are required to fulfill Nurse Corps SP service commitments at CSFs located in the 50 states, the District of Columbia, Guam, the Commonwealth of Puerto Rico, the Northern Mariana Islands, the U.S. Virgin Islands, American Samoa, the Federated States of Micronesia, the Republic of the Marshall Islands, and the Republic of Palau.

A 60-day notice published in the Federal Register on December 5, 2023, vol. 87, No. 232; pp. 74428-29. There were no public comments.

Need and Proposed Use of the Information: The Nurse Corps SP collects data to determine an applicant's eligibility for the program, monitor a participant's continued enrollment in a school of nursing, monitor the participant's compliance with the Nurse Corps SP service obligation, and prepare annual reports to Congress. The following information will be collected (1) from the schools, on a quarterly basis—general applicant and nursing school data such as full name, location, tuition/fees, and enrollment status; (2) from the schools, on an annual basis—data concerning tuition/fees and overall student enrollment status; and (3) from the participants and their employing CSF on a biannual basis—data concerning the participant's employment status, work schedule, and leave usage. This notice includes several changes to the information collection forms that were included in the 60-day notice, and requests comments on the revised information collection. Specifically, these changes are:

(1) Form Name Change: The “Initial Employment Verification Form” changed to “Employment Verification Form;” and “Employer—Participant Service Verification Form” changed to “In-Service Verification Form.” These titles more adequately describe the forms.

(2) Additional Forms: This notice includes two additional forms. (1) The Verification of Acceptance Form, to be completed by the academic institution to verify that the participant remains in good academic standing under the policies of the institutions; and (2) the Authorization to Release Information Form, which permits the disclosure of information pertaining to the participant's school enrollment, transcripts and grades, academic standing, enrollment and degree status, curriculum and examination requirements for graduation, tuition and fees, leave-of-absence, withdrawal, or dismissal from school. This information will be used to determine eligibility to continue to receive scholarship benefits and the amount of those benefits. These forms were not included in the 60-day notice, but due to programmatic need to ensure a method to adequately track academic standing of participants and to identify ongoing eligibility information of participants, they are now being included in this notice.

(3) Form Removal: The CSF Verification Form was included in the 60-day notice but is not included in this notice because the data formerly collected through the CSF has been included in the revised version of the Employment Verification Form.

Likely Respondents: Nurse Corps SP scholars in school, graduates, educational institutions, and CSFs.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Eligible Applications/Application Program Guidance | 2,600 | 1 | 2,600 | 2.00 | 5,200
School Enrollment Verification Form | 500 | 4 | 2,000 | .33 | 660
Confirmation of Interest Form | 250 | 1 | 250 | .20 | 50
Data Collection Worksheet Form | 500 | 1 | 500 | 1.00 | 500
Graduation Close Out Form | 200 | 1 | 200 | .17 | 34
Employment Verification Form | 500 | 1 | 500 | .42 | 210
In-Service Verification Form | 1,000 | 2 | 2,000 | .12 | 240
Verification of Acceptance Form | 500 | 1 | 500 | .33 | 165
Authorization to Release Information Form | 200 | 1 | 200 | .20 | 40
Total | 6,250 |  | 8,750 |  | 7,099

Maria G. Button,
Director, Executive Secretariat.

[FR Doc. 2023-05478 Filed 3-16-23; 8:45 am]

BILLING CODE 4165-15-P